SMALL BUSINESS ADMINISTRATION

[Disaster Declaration #12550 and #12551]

Mississippi Disaster Number MS-00047

AGENCY: U.S. Small Business Administration.

ACTION: Amendment 2.

SUMMARY: This is an amendment of the Presidential declaration of a major disaster for Public Assistance Only for the State of Mississippi (FEMA-1972-DR), dated 04/29/2011.

Incident: Severe storms, tornadoes, straight-line winds, and associated flooding.

Incident Period: 04/15/2011 through 04/28/2011.

Effective Date: 05/18/2011.

Physical Loan Application Deadline Date: 06/28/2011.

Economic Injury (EIDL) Loan Application Deadline Date: 01/30/2012.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street, SW., Suite 6050, Washington, DC 20416.

SUPPLEMENTARY INFORMATION: The notice of the President's major disaster declaration for Private Non-Profit organizations in the State of Mississippi, dated 04/29/2011, is hereby amended to include the following areas as adversely affected by the disaster.

Primary Counties: Alcorn, Attala, Clay, De Soto, Holmes, Marshall, Montgomery, Newton, Panola, Quitman, Smith, Tishomingo, Tunica, Winston, Benton, Calhoun, Carroll, Itawamba, Lee, Noxubee, Prentiss, Scott, Tate, Tippah, Union.

All other information in the original declaration remains unchanged.

(Catalog of Federal Domestic Assistance Numbers 59002 and 59008)

James E. Rivera,
Associate Administrator for Disaster Assistance.

[FR Doc. 2011-13313 Filed 5-27-11; 8:45 am]

BILLING CODE 8025-01-P